NUCLEAR REGULATORY COMMISSION

[Docket No. 50-0320; NRC-2022-0156]

TMI-2 Solutions, LLC; Three Mile Island Station, Unit No. 2

AGENCY: Nuclear Regulatory Commission.

ACTION: License amendment application; opportunity to comment, request a hearing, and to petition for leave to intervene; order imposing procedures.

SUMMARY: The U.S. Nuclear Regulatory Commission (NRC) is considering issuance of an amendment to Possession Only License (POL) No. DPR-73, issued to TMI-2 Solutions, LLC (TMI-2 Solutions) for Three Mile Island Station, Unit No. 2 (TMI-2). Pursuant to NRC regulations, TMI-2 Solutions proposes an amendment to the POL for TMI-2. This proposed license amendment request (LAR), upon approval, would revise the POL and the associated Technical Specifications (TS) to support the transition of TMI-2 from Post Defueled Monitoring Storage (PDMS) to that of a facility undergoing decommissioning. The proposed amendment would revise the POL and TS to support Phase 1b and Phase 2 decommissioning activities associated with achieving the removal of all debris material,¹ its transfer to dry cask storage at an Independent Spent Fuel Storage Installation or to a suitable waste storage area, and the relocation of various requirements and the sealed sources TS to the TMI-2 Decommissioning Quality Assurance Plan (DQAP). For this amendment request, the NRC proposes to determine that it involves no significant hazards consideration (NSHC). Because the amendment request contains sensitive unclassified non-safeguards information (SUNSI), an order imposes procedures to obtain access to SUNSI for contention preparation by persons who file a hearing request or petition for leave to intervene.

¹ Debris material is defined by the licensee as pieces of spent nuclear fuel, damaged core material, and high-level waste (collectively called, “Debris Material”).

DATES: Submit comments by September 21, 2022. Requests for a hearing or petition for leave to intervene must be filed by October 21, 2022. Any potential party as defined in Section 2.4 of title 10 of the Code of Federal Regulations (10 CFR) who believes access to SUNSI is necessary to respond to this notice must request document access by September 1, 2022.

ADDRESSES: You may submit comments by any of the following methods; however, the NRC encourages electronic comment submission through the Federal rulemaking website:

• Federal rulemaking website: Go to https://www.regulations.gov and search for Docket ID NRC-2022-0156. Address questions about Docket IDs in Regulations.gov to Stacy Schumann; telephone: 301-415-0624; email: Stacy.Schumann@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Amy Snyder, Office of Nuclear Material Safety and Safeguards, U.S. Nuclear Regulatory Commission, Washington, DC 20555-0001, telephone: 301-415-6822, email: Amy.Snyder@nrc.gov.

SUPPLEMENTARY INFORMATION:

I. Obtaining Information and Submitting Comments

A. Obtaining Information

Please refer to Docket ID NRC-2022-0156 when contacting the NRC about the availability of information for this action. You may obtain publicly available information related to this action by any of the following methods:

• Federal Rulemaking Website: Go to https://www.regulations.gov and search for Docket ID NRC-2022-0156.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. For the convenience of the reader, instructions about obtaining materials referenced in this document are provided in the “Availability of Documents” section.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. Eastern Time (ET), Monday through Friday, except Federal holidays.

B. Submitting Comments

The NRC encourages electronic comment submission through the Federal rulemaking website (https://www.regulations.gov). Please include Docket ID NRC-2022-0156 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Introduction

The NRC is considering issuance of an amendment to POL No. DPR-73, issued to TMI-2 Solutions for TMI-2 located in Dauphin County, Pennsylvania.

By letter dated February 19, 2021, as supplemented on May 5, 2021, January 7, 2022, March 23, 2022, April 7, 2022, and May 16, 2022, TMI-2 Solutions, submitted a LAR seeking NRC review and approval of an amendment request to the POL and Appendix A, TS, of POL No. DPR-73 for TMI-2. In its application, TMI-2 Solutions states that the revised TMI-2 POL and TS applicable during decommissioning are referred to as the Decommissioning TS. This amendment, if approved, would revise the POL and the associated TS to support the transition of TMI-2 from a PDMS condition to that of a facility undergoing radiological decommissioning using the DECON method pursuant to 10 CFR 50.82(a)(7).

The licensee proposes to eliminate those TS that are no longer applicable based on current plant radiological conditions and updated safe fuel mass limits. The licensee also proposes changes to TS limiting conditions for PDMS, definitions, surveillance requirements, and administrative controls, as well as several license conditions. Upon issuance, this proposed amendment will modify the 10 CFR part 50 license and the TS to support entry into DECON. TMI-2 Solutions intends to complete decommissioning of TMI-2 and release the site by 2037, except for an area set aside, as may be required, for debris material storage facilities.

TMI-2 Solutions also proposes to relocate administrative controls from Section 6, “Administrative Controls,” to the DQAP, and to subsequently control them in accordance with 10 CFR 50.54(a) pursuant to the criteria contained in 10 CFR 50.36 and in accordance with the recommendations, guidance, and purpose of NRC Administrative Letter 95-06. TMI-2 Solutions proposes to relocate the content of these administrative controls into the DQAP verbatim except for TS sectional cross references.

Before issuance of the proposed license amendment, the NRC will need to make the findings required by the Atomic Energy Act of 1954, as amended, and NRC's regulations.

The NRC has made a proposed determination that the LAR involves NSHC. Under the NRC's regulations in 10 CFR 50.92, “Issuance of amendment,” this means that operation of the facility in accordance with the proposed amendment would not (1) involve a significant increase in the probability or consequences of an accident previously evaluated; or (2) create the possibility of a new or different kind of accident from any accident previously evaluated; or (3) involve a significant reduction in a margin of safety. As required by 10 CFR 50.91(a), the licensee provided an analysis of the issue of NSHC. The NRC staff reviewed this analysis and provided its preliminary evaluation of it below:

1. Does the proposed amendment involve a significant increase in the probability or consequences of an accident previously evaluated?

Response: No.

The proposed changes would revise the TMI-2 POL and TS by deleting or modifying certain portions of the TS that are no longer applicable to TMI-2 as it transitions from PDMS to decommissioning. These changes are consistent with the criteria set forth in 10 CFR 50.36 for the contents of TS.

Following Phase 1a of decommissioning, TMI-2 will enter Phase 1b and Phase 2 of decommissioning. During Phase 1b and Phase 2, major decommissioning activities as defined in 10 CFR 50.2 will be performed. Based on preliminarily evaluating the licensee's LAR, as supplemented, the NRC preliminarily concludes that none of the events evaluated would exceed the applicable limits of 10 CFR 100.11 and the Environmental Protection Agency (EPA) Protective Action Guides (PAGs) and that there are no postulated accidents that can occur at the TMI-2 facility during Phase 1b or Phase 2 of decommissioning that would result in the dose at the site boundary exceeding the limits of 10 CFR 100.11 and the EPA PAGs including such times as when the containment engineered access equipment hatch is open. The NRC staff has requested additional information (July 29, 2022) regarding the uncertainty in the licensee's accident analysis so that it can complete its safety review and make a final determination regarding NSHC.

As part of the review of the LAR, as supplemented, the NRC staff preliminarily agrees with TMI-2 Solutions' conclusions that the deletion of TS 3/4.1, “Containment”, does not cause a change in facility conditions, design function, or analysis that verifies the ability of System Structures and Components (SSCs) to perform a design function. During Phase 1b and Phase 2 of decommissioning, the Radiation Protection Program and associated implementing procedures will provide the controls necessary to manage residual contamination. Therefore, it is reasonable to preliminarily conclude that containment will continue to function as a contamination barrier. TMI-2 Solutions states in its February 19, 2021, application that airborne radiation monitoring will be provided at the engineered containment openings. Also, TMI-2 Solutions states that procedures will be used to control routine containment access. Because TMI-2 Solutions commits to have engineered openings in containment, the reactor building breather (vent) would no longer provide a preferred path to the atmosphere. TMI-2 Solutions states in its February 19, 2021, application that it will not take any credit for the containment as a pressure containing boundary and therefore unfiltered leak rate testing of the containment is no longer applicable.

Also, in its May 16, 2022, supplement, TMI-2 Solutions states that the basic changes in the reactor building in going from PDMS to DECON are removal of the Equipment Hatch, squaring off of the hole left from equipment hatch removal, and installation of a barrier at the interface between the reactor building and the outside structure. Further, TMI-2 Solutions states in its May 16, 2022, supplement that credit is being taken for the reactor building as a passive radiological barrier to the extent that the door between the reactor building and the outside structure would only be open for the period of time necessary to allow passage of material or personnel between the two structures. TMI-2 Solutions states in its May 16, 2022, supplement that during DECON, other openings may be made in the containment structure. For openings, TMI-2 Solutions states it will follow good ALARA practices by ensuring that these openings will also include passive radiological barriers. Additionally, TMI-2 Solutions explains that during normal operation, any air flow would be into containment due to operation of the Reactor Building Purge Exhaust System.

In its May 16, 2022, supplement, TMI-2 Solutions states that the most limiting scenario is a reactor building fire, which is not based on any specific event. Its main purpose is to demonstrate that even if high efficiency particulate air [filter] (HEPA) filtration was bypassed, the event would not exceed 100 mrem to the maximally exposed individual, the standard for declaring a Site Area Emergency at an operating nuclear power plant. In its May 16, 2022, supplement, TMI-2 Solutions states that it has reanalyzed the reactor building fire scenario to demonstrate the additional margin that exists. The calculation incorporated a more appropriate fractional airborne release factor as used in NUREG/CR-0130.

The NRC staff preliminarily concludes that the deletion of TS 3/4.2, “Reactor Vessel Fuel,” does not cause a change in facility conditions, design function, or analysis that verifies the ability of SSCs to perform a design function and does not involve a significant increase in the probability or consequences of an accident previously evaluated.

TS 3/4.3, “Crane Operations,” prohibits loads over 50,000 lbs. from travel over the Reactor Vessel (RV). The licensee indicates in its NSHC (February 19, 2021, submittal) that the deletion of TS 3/4.3 does not cause a change in facility conditions, design function, or analysis that verifies the ability of SSCs to perform a design function. In its February 19, 2021, LAR, TMI-2 Solutions states that PDMS TS requirements associated with this TS are not applicable in Phase 1b and Phase 2 of decommissioning because there are no limiting conditions for the license. Also, TMI-2 Solutions explains in its LAR, as supplemented, that TS 3/4.3, “Crane Operations,” is not relevant because none of the four requirements in 10 CFR 50.36(c)(2)(ii) are applicable, based on its evaluation provided in Section 3.1, “Applicable Regulatory Requirement,” of its LAR (February 19, 2022). The NRC staff reviewed this section of the application and preliminarily agrees with TMI-2 Solutions for the following reasons: (1) TMI-2 does not have a reactor coolant pressure boundary; therefore, the requirements of Criterion 1 of 10 CFR 50.36(c)(2)(ii)(A) are not applicable; (2) TMI-2 is no longer licensed to operate therefore the requirements of Criterion 2c of 10 CFR 50.36(c)(2)(ii)(B) is not applicable; (3) TMI-2 cranes do not provide a function required to mitigate the effect of unanticipated occurrences such as fire; and (4) There are no TS associated with Phase 1b or Phase 2 other than annual effluent monitoring reporting, hence there are no limiting conditions for operation.

In its LAR, TMI-2 Solutions states that the PDMS TS requirements associated with TS 3/4.3 “Crane Operations,” are not applicable in Phase 1b and Phase 2. TMI-2 Solutions also states that TS 3/4.3 does not satisfy any of the four requirements established in 10 CFR 50.36(c)(2)(ii) and provides its reasons for its conclusions. Further, TMI-2 Solutions argues, because of the above, it is not required to have a hoisting and rigging program but has elected to develop one to address movement of loads at TMI-2 because it will provide a high degree of assurance that a load drop will not occur. The NRC staff preliminarily concludes that the hoisting and rigging program will serve the same purpose as the TS, as applicable to decommissioning. Further, TMI-2 Solutions commits to prepare lift plans for all non-standard lifts, as directed by the hoisting and rigging program. TMI-2 Solutions, in its LAR, as supplemented, explains that the purpose of the hoisting and rigging program is to define the minimum requirements for the safe operations of cranes and hoists. Also, TMI-2 Solution indicates that the hoisting and rigging program will provide detailed requirements for training and qualification of personnel, inspection and maintenance of cranes or hoists, the safe use of rigging equipment as well as direction for performing non-standard lifts to ensure that lifting operations are performed in a safe manner. Based on its review of the LAR, as supplemented, the NRC staff preliminarily agrees with TMI-2 Solutions' conclusion that the use of the hoisting and rigging program provides a defense-in-depth approach to preventing a load drop from occurring. TMI-2 Solutions states in its LAR that crane design features such as load cells, and travel stops will be used, as required by the hoisting and rigging program, to ensure safe travel paths and barriers will be provided as per the lift plan, as required, to preclude the effects of a load drop.

TMI-2 Solutions submitted a calculation (Attachment 5 of its February 19, 2021, submittal, as supplemented on April 7, 2022) that assesses increasing the Safe Fuel Mass Limit (SFML) from 42 kg to approximately 1200 kg. The analysis states that it is not credible to have 1200 kg U in an idealized configuration for criticality to occur during Phase 1b or Phase 2 of decommissioning. TMI-2 Solutions explains that there are no credible operational upsets to realize the ideal configuration. TMI-2 Solutions concludes that even if the upset occurred, it would require fissile mass in excess of that analyzed, which is in excess of what could occur. The NRC staff reviewed this analysis, finds its assumptions reasonable, and therefore, preliminarily agrees with this conclusion. Therefore, based on its review described above, the NRC staff preliminarily concludes that the deletion of TS 3/4.3 “Crane Operations” does not involve a significant increase in the probability or consequences of an accident previously evaluated.

TMI-2 Solutions in its LAR proposes to delete TS definitions and rules of usage and application that will not be applicable during Phase 1b and Phase 2 decommissioning and concludes that these changes have no impact on facility SSCs or the methods of operation of such SSCs. Based on the NRC staff's review of the LAR, the NRC staff preliminarily concludes that the proposed relocation of certain administrative requirements as allowed by Administrative Letter 95-06 (Reference 6) would not affect operating procedures or administrative controls that have the function of ensuring the safe management of debris material or decommissioning of the facility. Therefore, the NRC staff preliminarily concludes that the proposed amendment would not involve a significant increase in the probability or consequences of an accident previously evaluated.

2. Does the proposed amendment create the possibility of a new or different kind of accident from any accident previously evaluated?

Response: No.

The NRC staff preliminarily concludes that the proposed changes to delete and/or modify the TS would not create the possibility of a new or different kind of accident from that previously evaluated. The removal of the TS applicable in Phase 1a of decommissioning cannot result in different or more adverse accidents than previously evaluated because there are no new credible failure mechanisms, or accident initiators not considered in the design and licensing basis for Phase 1b of decommissioning. Following Phase 1a of decommissioning, TMI-2 will enter Phase 1b and Phase 2 of decommissioning. During Phase 1b and Phase 2, major decommissioning activities as defined in 10 CFR 50.2 will be performed. As discussed in Attachment 1 to TMI-2 Solutions' May 16, 2022, supplement, a reactor building fire has been evaluated and determined to be the accident that could occur during decommissioning that would maximize dose at the site boundary. TMI-2 Solutions states that the reactor building fire is the most limiting scenario and it is not based on any specific event. Its main purpose is to demonstrate that even if HEPA Filtration was bypassed, the event would not exceed 100 mrem to the maximally exposed individual, the standard for declaring a Site Area Emergency at an operating nuclear power plant. In Attachment 2 of the May 16, 2022, supplement, TMI-2 has reanalyzed the reactor building fire scenario to demonstrate the additional margin that exists. TMI-2 Solutions states in its May 16, 2022, supplement that the calculation incorporated a more appropriate fractional airborne release factor as used in NUREG/CR-0130. TMI-2 states in its LAR, as supplemented, that there are no postulated accidents that can occur at the TMI-2 facility during Phase 1b or Phase 2 of decommissioning that would result in the dose at the site boundary exceeding the limits of 10 CFR 100.11 and the EPA PAGs including such times as when the containment engineered access equipment hatch is open. Further, the NRC staff notes that the TMI-2 Radiation Protection Program would identify the controls that will be implemented through procedures during decommissioning and decontamination activities occurring inside of the reactor building.

The use of these Radiation Protection Program implementing procedures take into account detailed work planning and execution of the decommissioning and decontamination work and support activities, including measures to maintain occupational dose As Low As Reasonably Achievable and below the occupational dose limits in 10 CFR part 20 during decommissioning. TMI-2 Solutions states in its LAR, as supplemented, that procedures associated with Phase 1b of decommissioning will be developed to retrieve the remaining core debris or debris material and decontaminate high radiation areas. TMI-2 Solutions also commits that it will develop appropriate procedures for Phase 2.

The NRC staff reviewed this analysis, finds its assumptions reasonable, and therefore, preliminarily agrees with the TMI-2 Solutions conclusion that the deletion of TS 3/4.1 “Containment” does not cause a change in facility conditions, nor does it cause a change in design function. TMI-2 Solutions notes in its application that the function of the containment—to maintain the isolation of residual contamination during Phase 1a decommissioning—remains unchanged. The NRC staff preliminarily agrees that during Phase 1b and 2 of decommissioning, the Radiation Protection Program and associated implementing procedures will provide the controls necessary to manage residual contamination and that the containment would continue to function as a contamination barrier. TMI-2 Solutions states in its application that airborne radiation monitoring will be provided at the engineered containment openings (e.g., Equipment Hatch Opening) and that procedures will be used to control routine containment access. With the construction of the engineered openings in containment, the NRC staff preliminarily agrees with TMI-2 Solutions that the reactor building breather (vent) no longer provides a preferred path to the atmosphere. TMI-2 Solutions explains in its February 19, 2021, application that no credit is taken for the containment as a pressure containing boundary and therefore unfiltered leak rate testing of the containment is no longer applicable.

The NRC staff preliminarily concludes that the dose at the site boundary associated with the events described in Attachment 1 to TMI-2 February 19, 2021, LAR, as supplemented on May 16, 2022, does not exceed the requirements of 10 CFR 100.11, as well as the EPA PAGs. The NRC staff preliminarily agrees with TMI-2 Solutions that the deletion of TS 3/4.1 “Containment” would not create the possibility of a new or different kind of accident from any accident previously evaluated relative to Phase 1b or Phase 2 of decommissioning.

TS 3/4.2 “Reactor Vessel Fuel” establishes a SFML for the PDMS condition, which ensures that the amount of core debris that may be removed from the RV or rearranged in the RV during PDMS does not exceed 42kg. This SFML limit is specified to ensure subcriticality even after dual errors.

The NRC preliminarily agrees that the deletion of TS 3/4.2 does not cause a change in facility conditions, nor does it cause a change in design function. TMI-2 Solutions provides a calculation in Attachment 5 of its February 19, 2021, LAR, as supplemented on April 7, 2022, stating that this calculation provides the basis to increase the SFML from 42 kg to 1200 kg. Also, TMI-2 Solutions states that the result of this calculation demonstrates that the entire mass of the core debris material cannot be configured into an arrangement whereby a criticality event is possible and that Keff could not exceed 0.95. The NRC staff reviewed this analysis, finds its assumptions reasonable, and therefore, preliminarily agrees with this conclusion.

Therefore, the NRC staff preliminarily agrees that the deletion of TS 3/4.2 “Reactor Vessel Fuel” does not create the possibility of a new or different kind of accident from any accident previously evaluated relative to Phase 1b or Phase 2 of decommissioning.

During PDMS, loads over 50,000 lbs. are prohibited from travel over the RV. The NRC staff preliminarily concludes that the deletion of TS 3/4.3 “Crane Operations” would not cause a change in facility conditions, nor does it cause a change in design function. As discussed in Section 2 “Detailed Description and Basis for The Changes,” of the February 19, 2021, submittal for Phase 1b and Phase 2 of decommissioning, TMI-2 Solutions states it will develop a hoisting and rigging program that addresses movement of loads at TMI-2. Also, TMI-2 Solutions explains in its LAR that this program will define the minimum requirements for the safe operations of cranes and hoists. Also, TMI-2 explains that this program will provide detailed requirements, as applicable, for training and qualification of personnel, inspection and maintenance of cranes or hoists, the safe use of rigging equipment as well as direction for performing non-standard lifts to ensure that lifting operations are performed in a safe manner. TMI-2 Solutions indicates in its February 19, 2021, application that it will develop lift plans for all lifts as directed by the hoisting and rigging program where a load drop or load impingement could contribute to release or dispersal of radioactive material to the environment which could exceed threshold for an unusual event.

The NRC staff preliminary agrees with TMI-2 Solutions statement that the hoisting and rigging program provides a defense in depth approach to preventing a load drop from occurring. TMI-2 Solutions commits to use, as required by the hoisting and rigging program, crane design features such as load cells, and travel stops, to ensure safe travel paths. TMI-2 Solutions commits to provide barriers as required to preclude the effects of a load drop.

A calculation has been performed by TMI-2 Solutions (Attachment 5 of the February 19, 2021, submittal and as supplemented on April 7, 2022) that assesses increasing the SFML from 42 kg to approximately 1200 kg. The analysis states that it is not credible to have 1200 kg U in an idealized configuration for criticality to occur during Phase 1b or Phase 2 of decommissioning and that there are no credible operational upsets to realize the ideal configuration but even in the event that the upset occurs, it would require fissile mass in excess of that analyzed, which is in excess of what could occur, in addition to a greatly reduced impurity concentration to present a criticality hazard. Therefore, NRC preliminarily concludes that the deletion of TS 3/4.3 “Crane Operations” does not create the possibility of a new or different kind of accident from any accident previously evaluated relative to Phase 1b or Phase 2 of decommissioning.

The TMI-2 sealed sources are maintained at Three Mile Island Station, Unit No. 1 (TMl-1) and managed by Constellation Energy, LLC under a program compliant with the requirements of 10 CFR 70.39(c). Therefore, deleting TS 3/4.4 “Sealed Sources” from the TMI-2 TS and relocating the TS requirements to the DQAP, as noted in TMI-2 Solutions January 7, 2022, supplement, does not create the possibility of a new or different kind of accident from any accident previously evaluated relative to Phase 1b or Phase 2 decommissioning.

Based on the above, the NRC staff preliminarily concludes that the proposed changes will not create the possibility of a new or different kind of accident due to credible new failure mechanisms, malfunctions, or accident initiators not considered in the licensing bases documents. Further, the NRC preliminarily concludes that decommissioning operations in Phase 1b and Phase 2 decommissioning are bounded by the events described in Attachment 1 of the February 19, 2021, submittal, as supplemented on May 16, 2022.

3. Does the proposed amendment involve a significant reduction in a margin of safety?

Response: No.

The proposed changes would revise the TMI-2 POL and TS by deleting or modifying certain portions of the TS that are no longer applicable to TMI-2 as it transitions from PDMS to decommissioning. These changes are consistent with the criteria set forth in 10 CFR 50.36 for the contents of TS.

The Phase 1a decommissioning condition is a continuation of the PDMS condition. No major decommissioning activities will occur in Phase 1a. During Phase 1a of decommissioning, containment isolation assures that the containment continues to perform as a contamination barrier preventing residual contamination from release from inside the containment.” TMI-2 Solutions, explains in Section 2 “Detailed Description and Basis for the Changes” of its February 19, 2021, application, as supplemented on May 16, 2022, that the radiological consequences associated with the “fire inside containment” unanticipated event, does not exceed the applicable limits of 10 CFR 100.11 and the EPA PAGs.

Following Phase 1a, TMI-2 will enter Phase 1b and Phase 2 of decommissioning. During Phase 1b, major decommissioning activities as defined in 10 CFR 50.2 will be performed. Based on the consequences of the postulated events in Attachment 2 of TMI-2 Solutions February 19, 2021, application, as supplemented on May 16, 2022, TMI-2 Solutions concludes that none of the events evaluated involve a significant reduction in a margin of safety.

TMI-2 Solutions states in its February 19, 2021, application that there are no postulated accidents that can occur inside of the reactor building during Phase 1b or Phase 2 that result in the dose at the site boundary exceeding the limits of 10 CFR 100.11 and the EPA PAGs including such times as when the containment engineered access equipment hatch is open.

TMI-2 Solutions states in its LAR, that during Phase 1a of decommissioning, isolation assures that the containment continues to perform as a contamination barrier preventing residual contamination from release from inside the containment.TMI-2 states in its February 19, 2021, application, as supplemented on May 16, 2022, that there are no postulated accidents that can occur inside of the reactor building during Phase 1b or Phase 2 of decommissioning that result in the dose at the site boundary exceeding the limits of 10 CFR 100.11 and the EPA PAGs including such times as when the containment engineered access equipment hatch is open. Further, the NRC staff notes that the TMI-2 Radiation Protection Program will identify the controls that will be implemented through procedures during decommissioning and decontamination activities occurring inside of the reactor building. The use of these Radiation Protection Program implementing procedures takes into account detailed work planning, and execution of the decommissioning and decontamination work and support activities, including measures to maintain occupational dose As Low As Reasonably Achievable and below the occupational dose limits in 10 CFR part 20 during decommissioning. TMI-2 Solutions states in its LAR that procedures associated with Phase 1b of decommissioning will be developed to retrieve the remaining core debris and decontaminate high radiation areas. TMI-2 Solutions also commits that it will develop appropriate procedures for Phase 2.

TMI-2 Solutions concludes that the deletion of TS 3/4.1 “Containment” does not exceed or alter a design basis or safety limit. The function of the containment is to confine residual radioactivity that otherwise might be released to the atmosphere during reactor building decommissioning. The NRC staff reviewed this analysis, finds its assumptions reasonable, and therefore, preliminarily agrees with TMI-2 Solutions' conclusions that the deletion of TS 3/4.1 “Containment” does not significantly reduce the margin of safety during Phase 1b and Phase 2.

Also, the NRC staff preliminarily agrees that during Phase 1b and 2 of decommissioning, the Radiation Protection Program and associated implementing procedures will provide the controls necessary to manage residual contamination and that the containment would continue to function as a contamination barrier. TMI-2 Solutions states in its application that airborne radiation monitoring will be provided at the engineered containment openings (e.g., Equipment Hatch Opening) and that procedures will be used to control routine containment access. With the construction of the engineered openings in containment, the NRC staff preliminarily agrees with TMI-2 Solutions that the reactor building breather (vent) no longer provides a preferred path to the atmosphere. TMI-2 Solutions explains in its February 19, 2021, application, as supplemented on May 26, 2022, that no credit is taken for the containment as a pressure containing boundary, and therefore, unfiltered leak rate testing of the containment is no longer applicable.

The NRC staff preliminarily agrees with the licensee's NHSC conclusion in its LAR that the dose at the site boundary associated with the events described in Attachment 1 to TMI-2 February 19, 2021, application, as supplement on May 26, 2022, does not exceed the requirements of 10 CFR 100.11, as well as the EPA PAGs. The NRC staff preliminarily agrees with TMI-2 Solutions that the deletion of TS 3/4.1 “Containment” is appropriate for the reasons stated above. Therefore, the NRC staff preliminarily concludes that deletion of TS 3/4.1 “Containment” does not significantly reduce the margin of safety during Phase 1b and Phase 2.

TS 3/4.2 “Reactor Vessel Fuel” establishes a SFML for the PDMS condition, which ensures that the amount of core debris that may be removed from the RV or rearranged in the RV during PDMS does not exceed 42 kg. This SFML limit is specified to ensure subcriticality even after dual errors. TMI-2 Solutions provides a calculation in Attachment 5 of its February 19, 2021, application, supplemented on April 7, 2022, which it states provides the basis to increase the SFML from 42 kg to 1200 kg. TMI-2 Solutions states that the current SFML was developed based solely on credible upper bounds for input parameters as opposed to sample data or realistic conditions. TMI-2 Solutions based the proposed revision to the SFML upon existing data and known conditions. TMI-2 Solutions states that these inputs are still considered to be reasonably and sufficiently conservative for their use in development of the proposed 1200 kg SFML. Further, TMI-2 Solutions explains that the derived SFML bounds the entire expected fissile mass inventory throughout all physically separated areas within the reactor building.

TMI-2 Solutions states that the bounding fissile mass used to produce the SFML is assembled in idealized conditions that cannot credibly exist during decommissioning operations. TMI-2 Solutions explains that even if the expected remaining fissile mass throughout the building, including hold up in all piping and cubicles were to be brought together, a criticality is not feasible. TMI-2 Solutions indicates that there are no credible operational upsets to realize the ideal configuration for criticality but even in the event that the upset occurs, it would require fissile mass in excess of that analyzed, which is in excess of what could occur. In addition, TMI-2 states that the SFML is based on a significantly reduced impurity concentration below that demonstrated to be present. The Keff for the new SFML in the idealized static conditions does not exceed 0.95. The calculation of the new SFML states that the entire mass of the core debris material cannot be configured into an arrangement whereby a criticality event is possible. Debris material removal operations will involve loading 12-14 storage casks with each cask containing less than the total SFML calculated for Phase 1b of decommissioning. The NRC staff preliminarily agrees with TMI-2 Solutions that the overall subcritical nature, namely inherent elemental constituents, of the fuel debris remaining at the TMI-2 facility today is equivalent to that associated with the fuel debris at TMI-2 prior to defueling operations. TMI-2 Solutions states that the presence of some intact fuel, and the results of sampling campaigns conducted prior to defueling indicating slight impurity gradients through the RV did not easily allow the application of a representative fuel composition to the entirety of the core during the development of the previous SFML. Further, TMI-2 Solutions explains that static and accident conditions analyzed after defueling merely credited the minimum concentration of impurities to ensure the facility was safe. In each of these scenarios, the applied conservatisms are different. TMI-2 believes that currently, core debris in the lower head region of the RV is most representative of what remains in the RV at the present time. Therefore, TMI-2 Solutions explains in its LAR that a reasonable representative impurity concentration can be applied to the homogenized mass in development of a new SFML for decontamination and decommissioning. NRC staff preliminarily agrees with TMI-2 Solutions that a conservative approach to adequately represent the inherent characteristics of the remaining fuel debris can be taken with respect to the development of an SFML for the remaining decommissioning activities. This approach would not necessarily be applicable for the previous defueling operations or the related SFML developed at that time. TMI-2 Solutions indicates in its LAR that the current SFML was conservatively derived and, coupled with the conservatively estimated masses and the planned decommissioning operations, provides significant and adequate margin of safety that ensures that the potential for a criticality is not credible.

Also, TMI-2 Solutions explains in its LAR that the proposed change would not exceed or alter the SFML design basis as presented in the Final Safety Analysis Report and Keff for the new SFML does not exceed 0.95.

The NRC staff reviewed the licensee's NSHC in its LAR for the SFML analysis, and based on the above, the NRC staff preliminarily agrees with the licensee's analysis and finds its assumptions reasonable. Therefore, the NRC staff preliminarily agrees with TMI-2 Solutions' conclusions that the proposed amendment would not involve a significant reduction in a margin of safety. Therefore, the NRC staff preliminarily concludes that deletion of PDMS TS 3/4.2 “Reactor Vessel Fuel” does not involve a significant reduction in a margin of safety during Phase 1b and Phase 2.

As part of the PDMS condition, loads over 50,000 lbs. are prohibited from travel over the RV. TMI-2 Solutions in its LAR, states that the deletion of TS 3/4.3 would not exceed or alter a design basis or safety limit because there are no limiting conditions on operations. Further TMI-2 states in its LAR that there are no SSCs that would prevent safe shut down of the reactor. The NRC staff notes that the reactor is no longer operating and has permanently ceased operations as documented on February 13, 2013. As discussed in Section 2 “Detailed Description and Basis for The Changes,” for Phase 1b and Phase 2 of decommissioning, TMI-2 Solutions committed to develop a hoisting and rigging program that addresses movement of loads at TMI-2. The purpose of the hoisting and rigging program is to define the minimum requirements for the safe operations of cranes and hoists. The hoisting and rigging program would provide as applicable, detailed requirements for training and qualification of personnel, inspection and maintenance of cranes or hoists, the safe use of rigging equipment as well as direction for performing non-standard lifts to ensure that lifting operations are performed in a safe manner. TMI-2 Solutions has committed in its February 19, 2021, application to develop a lift plan for all lifts as directed by the hoisting and rigging program where a load drop or load impingement could contribute to release or dispersal of radioactive material to the environment could exceed the threshold for an unusual event.

The NRC staff preliminarily concludes that implementation of the hoisting and rigging program provides a defense in depth approach to preventing a load drop from occurring. TMI-2 Solutions has committed to address crane design features such as load cells, and travel stops, as required, to ensure safe travel paths. Also, TMI-2 Solutions has committed that it will provide barriers as required to preclude the effects of a load drop. TMI-2 Solutions provided a calculation found in Attachment 5 of its February 19, 2021, application that assesses increasing the SFML from 42 kg to approximately 1200 kg. As stated in the calculation, it is not credible to have 1200 kg U in an idealized configuration for criticality to occur. There are no credible operational upsets to realize the ideal configuration but even if the upset occurs, it would require fissile mass in excess of that analyzed, which is in excess of what could occur in addition to a greatly reduced impurity concentration to present a criticality hazard. Therefore, the NRC staff preliminarily concludes that the deletion of TS 3/4.3 “Crane Operations” does not significantly reduce the margin of safety during Phase 1b and Phase 2.

The TMI-2 sealed sources are maintained at TMI-1 and managed by Constellation Energy, LLC under a program compliant with the requirements of 10 CFR 70.39(c). Deleting TS 3/4.4 “Sealed Sources” from the TMI-2 TS and relocating the TS requirements to the DQAP, as noted in TMI-2 Solutions' January 7, 2022, supplement, does not involve a significant reduction in a margin of safety.

The proposed changes do not affect remaining plant operations, systems, or components supporting decommissioning activities. The proposed changes do not result in a change in initial conditions, or in any other parameter affecting the course of the remaining decommissioning activity accident analysis. Therefore, the NRC preliminarily concludes that the proposed changes do not involve a significant reduction in a margin of safety.

Based on the above, NRC preliminarily concludes that the proposed amendment does not involve a significant hazards consideration under the standards set forth in 10 CFR 50.92(c), and accordingly, a finding of NSHC is justified.

III. Opportunity To Request a Hearing and Petition for Leave To Intervene

Within 60 days after the date of publication of this notice, any persons (petitioner) whose interest may be affected by any of these actions may file a request for a hearing and petition for leave to intervene (petition) with respect to that action. Petitions shall be filed in accordance with the Commission's “Agency Rules of Practice and Procedure” in 10 CFR part 2. Interested persons should consult a current copy of 10 CFR 2.309. If a petition is filed, the Commission or a presiding officer will rule on the petition and, if appropriate, a notice of a hearing will be issued.

Petitions must be filed no later than 60 days from the date of publication of this notice in accordance with the filing instructions in the “Electronic Submissions (E-Filing)” section of this document. Petitions and motions for leave to file new or amended contentions that are filed after the deadline will not be entertained absent a determination by the presiding officer that the filing demonstrates good cause by satisfying the three factors in 10 CFR 2.309(c)(1)(i) through (iii).

If a hearing is requested, and the Commission has not made a final determination on the issue of NSHC, the Commission will make a final determination on the issue of NSHC. The final determination will serve to establish when the hearing is held. If the final determination is that the amendment request involves NSHC, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally recognized Indian Tribe, or designated agency thereof, may submit a petition to the Commission to participate as a party under 10 CFR 2.309(h) no later than 60 days from the date of publication of this notice. Alternatively, a State, local governmental body, Federally recognized Indian Tribe, or agency thereof may participate as a non-party under 10 CFR 2.315(c).

For information about filing a petition and about participation by a person not a party under 10 CFR 2.315, see ADAMS Accession No. ML20340A053 (https://adamswebsearch2.nrc.gov/webSearch2/main.jsp?AccessionNumber=ML20340A053) and on the NRC's public website at https://www.nrc.gov/about-nrc/regulatory/adjudicatory/hearing.html#participate.

IV. Electronic Submissions and E-Filing

All documents filed in NRC adjudicatory proceedings including documents filed by an interested State, local governmental body, Federally recognized Indian Tribe, or designated agency thereof that requests to participate under 10 CFR 2.315(c), must be filed in accordance with 10 CFR 2.302. The E-Filing process requires participants to submit and serve all adjudicatory documents over the internet, or in some cases, to mail copies on electronic storage media, unless an exemption permitting an alternative filing method, as further discussed, is granted. Detailed guidance on electronic submissions is located in the “Guidance for Electronic Submissions to the NRC” (ADAMS Accession No. ML13031A056) and on the NRC's public website at https://www.nrc.gov/site-help/e-submittals.html.

To comply with the procedural requirements of E-Filing, at least 10 days prior to the filing deadline, the participant should contact the Office of the Secretary by email at Hearing.Docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the proceeding if the Secretary has not already established an electronic docket.

Information about applying for a digital ID certificate is available on the NRC's public website at https://www.nrc.gov/site-help/e-submittals/getting-started.html. After a digital ID certificate is obtained and a docket created, the participant must submit adjudicatory documents in Portable Document Format. Guidance on submissions is available on the NRC's public website at https://www.nrc.gov/site-help/electronic-sub-ref-mat.html. A filing is considered complete at the time the document is submitted through the NRC's E-Filing system. To be timely, an electronic filing must be submitted to the E-Filing system no later than 11:59 p.m. ET on the due date. Upon receipt of a transmission, the E-Filing system time-stamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed to obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9:00 a.m. and 6:00 p.m., ET, Monday through Friday, except Federal holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless excluded pursuant to an order of the presiding officer. If you do not have an NRC-issued digital ID certificate as previously described, click “cancel” when the link requests certificates and you will be automatically directed to the NRC's electronic hearing dockets where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

V. Availability of Documents

The documents identified in the following table are available to interested persons through ADAMS.

Document description | ADAMS accession No.
Three Mile Island, Unit 2, License Amendment Request Decommissioning Technical Specifications, with No Significant Hazards Consideration, dated February 19, 2021 | ML21057A046.
21-003, Rev 00, “Decommissioning Radioactive Waste Handling Accident Calculation For TMI-2“, dated February 11, 2021 | ML21057A045 (non-public, withheld pursuant to 10 CFR 2.390).
Three Mile Island, Unit 2, Supplemental Information to License Amendment Request Decommissioning Technical Specifications, dated May 5, 2021 | ML21133A263 (Package).
License Amendment Request—Three Mile Island, Unit 2, Decommissioning Technical Specifications, Supplemental Information, dated January 7, 2022 | ML22013A177.
Three Mile Island, Unit 2, Supplemental Information to License Amendment Request, Decommissioning Technical Specifications, dated March 23, 2022 | ML22101A079.
Three Mile Island, Unit 2, Supplemental Information to License Amendment Request, Decommissioning Technical Specifications, dated April 7, 2022 | ML22101A080 (Package).
Three Mile Island Nuclear Station, Unit 2 (TMl-2)—License Amendment Request—Three Mile Island, Unit 2, Decommissioning Technical Specifications, Response to Questions, dated May 16, 2022 | ML22138A285.
NRC Administrative Letter 95-06, Relocation of TS Administrative Controls Related to QA, dated March 19, 1996, and December 12, 1995 | ML20101P963.
Camper, L.W. (NRC) to Pace, D.L. (GPU Nuclear) letter, “Three Mile Island Nuclear Station, Unit 2 (TM1-2)—Failure to Submit Post-Shutdown Decommissioning Activities Report—Non-cited Violation (Docket: 05000320),” dated February 13, 2013 | ML12349A291.
GPU Nuclear Calculation 4440-7380-90-017, Revision 4, “PDMS SAR Section 8.2.5 Fire Analysis Source Terms“, dated May 16, 2022 | ML22138A287 (non-public, withheld pursuant to 10 CFR 2.390).
Requests for Addition Information for Proposed Decommissioning Tech Specs License Amendment Request, dated July 29, 2022 | ML22210A080.

Order Imposing Procedures for Access to Sensitive Unclassified Non-Safeguards Information for Contention Preparation

A. This Order contains instructions regarding how potential parties to this proceeding may request access to documents containing SUNSI.

B. Within 10 days after publication of this notice of hearing or opportunity for hearing, any potential party who believes access to SUNSI is necessary to respond to this notice may request access to SUNSI. A “potential party” is any person who intends to participate as a party by demonstrating standing and filing an admissible contention under 10 CFR 2.309. Requests for access to SUNSI submitted later than 10 days after publication of this notice will not be considered absent a showing of good cause for the late filing, addressing why the request could not have been filed earlier.

C. The requestor shall submit a letter requesting permission to access SUNSI to the Office of the Secretary, U.S. Nuclear Regulatory Commission, Washington, DC 20555-0001, Attention: Rulemakings and Adjudications Staff, and provide a copy to the Deputy General Counsel for Licensing, Hearings, and Enforcement, Office of the General Counsel, U.S. Nuclear Regulatory Commission, Washington, DC 20555-0001. The expedited delivery or courier mail address for both offices is: U.S. Nuclear Regulatory Commission, 11555 Rockville Pike, Rockville, Maryland 20852. The email addresses for the Office of the Secretary and the Office of the General Counsel are Hearing.Docket@nrc.gov and RidsOgcMailCenter.Resource@nrc.gov, respectively.² The request must include the following information:

² While a request for hearing or petition to intervene in this proceeding must comply with the filing requirements of the NRC's “E-Filing Rule,” the initial request to access SUNSI under these procedures should be submitted as described in this paragraph.

(1) A description of the licensing action with a citation to this Federal Register notice;

(2) The name and address of the potential party and a description of the potential party's particularized interest that could be harmed by the action identified in C.(1); and

(3) The identity of the individual or entity requesting access to SUNSI and the requestor's basis for the need for the information in order to meaningfully participate in this adjudicatory proceeding. In particular, the request must explain why publicly available versions of the information requested would not be sufficient to provide the basis and specificity for a proffered contention.

D. Based on an evaluation of the information submitted under paragraph C, the NRC staff will determine within 10 days of receipt of the request whether:

(1) There is a reasonable basis to believe the petitioner is likely to establish standing to participate in this NRC proceeding; and

(2) The requestor has established a legitimate need for access to SUNSI.

E. If the NRC staff determines that the requestor satisfies both D.(1) and D.(2), the NRC staff will notify the requestor in writing that access to SUNSI has been granted. The written notification will contain instructions on how the requestor may obtain copies of the requested documents, and any other conditions that may apply to access to those documents. These conditions may include, but are not limited to, the signing of a Non-Disclosure Agreement or Affidavit, or Protective Order ³ setting forth terms and conditions to prevent the unauthorized or inadvertent disclosure of SUNSI by each individual who will be granted access to SUNSI.

³ Any motion for Protective Order or draft Non-Disclosure Affidavit or Agreement for SUNSI must be filed with the presiding officer or the Chief Administrative Judge if the presiding officer has not yet been designated, within 30 days of the deadline for the receipt of the written access request.

F. Filing of Contentions. Any contentions in these proceedings that are based upon the information received as a result of the request made for SUNSI must be filed by the requestor no later than 25 days after receipt of (or access to) that information. However, if more than 25 days remain between the petitioner's receipt of (or access to) the information and the deadline for filing all other contentions (as established in the notice of hearing or opportunity for hearing), the petitioner may file its SUNSI contentions by that later deadline.

G. Review of Denials of Access.

(1) If the request for access to SUNSI is denied by the NRC staff after a determination on standing and requisite need, the NRC staff shall immediately notify the requestor in writing, briefly stating the reason or reasons for the denial.

(2) The requestor may challenge the NRC staff's adverse determination by filing a challenge within 5 days of receipt of that determination with: (a) the presiding officer designated in this proceeding; (b) if no presiding officer has been appointed, the Chief Administrative Judge, or if this individual is unavailable, another administrative judge, or an Administrative Law Judge with jurisdiction pursuant to 10 CFR 2.318(a); or (c) if another officer has been designated to rule on information access issues, with that officer.

(3) Further appeals of decisions under this paragraph must be made pursuant to 10 CFR 2.311.

H. Review of Grants of Access. A party other than the requestor may challenge an NRC staff determination granting access to SUNSI whose release would harm that party's interest independent of the proceeding. Such a challenge must be filed within 5 days of the notification by the NRC staff of its grant of access and must be filed with: (a) the presiding officer designated in this proceeding; (b) if no presiding officer has been appointed, the Chief Administrative Judge, or if this individual is unavailable, another administrative judge, or an Administrative Law Judge with jurisdiction pursuant to 10 CFR 2.318(a); or (c) if another officer has been designated to rule on information access issues, with that officer.

If challenges to the NRC staff determinations are filed, these procedures give way to the normal process for litigating disputes concerning access to information. The availability of interlocutory review by the Commission of orders ruling on such NRC staff determinations (whether granting or denying access) is governed by 10 CFR 2.311.⁴

⁴ Requestors should note that the filing requirements of the NRC's E-Filing Rule (72 FR 49139; August 28, 2007, as amended at 77 FR 46562; August 3, 2012, 78 FR 34247, June 7, 2013) apply to appeals of NRC staff determinations (because they must be served on a presiding officer or the Commission, as applicable), but not to the initial SUNSI request submitted to the NRC staff under these procedures.

I. The Commission expects that the NRC staff and presiding officers (and any other reviewing officers) will consider and resolve requests for access to SUNSI, and motions for protective orders, in a timely fashion in order to minimize any unnecessary delays in identifying those petitioners who have standing and who have propounded contentions meeting the specificity and basis requirements in 10 CFR part 2. The Attachment to this Order summarizes the general target schedule for processing and resolving requests under these procedures.

It is so ordered.

Dated: August 17, 2022.
For the Nuclear Regulatory Commission.
Brooke P. Clark,
Secretary of the Commission.

Attachment 1—General Target Schedule for Processing and Resolving Requests for Access to Sensitive Unclassified Non-Safeguards Information in This Proceeding
Day | Event/activity
0 | Publication of Federal Register notice of hearing or opportunity for hearing, including order with instructions for access requests.
10 | Deadline for submitting requests for access to Sensitive Unclassified Non-Safeguards Information (SUNSI) with information: supporting the standing of a potential party identified by name and address; describing the need for the information in order for the potential party to participate meaningfully in an adjudicatory proceeding.
60 | Deadline for submitting petition for intervention containing: (i) demonstration of standing; and (ii) all contentions whose formulation does not require access to SUNSI (+25 Answers to petition for intervention; +7 petitioner/requestor reply).
20 | U.S. Nuclear Regulatory Commission (NRC) staff informs the requestor of the staff's determination whether the request for access provides a reasonable basis to believe standing can be established and shows need for SUNSI. (NRC staff also informs any party to the proceeding whose interest independent of the proceeding would be harmed by the release of the information.) If NRC staff makes the finding of need for SUNSI and likelihood of standing, NRC staff begins document processing (preparation of redactions or review of redacted documents).
25 | If NRC staff finds no “need” or no likelihood of standing, the deadline for petitioner/requestor to file a motion seeking a ruling to reverse the NRC staff's denial of access; NRC staff files copy of access determination with the presiding officer (or Chief Administrative Judge or other designated officer, as appropriate). If NRC staff finds “need” for SUNSI, the deadline for any party to the proceeding whose interest independent of the proceeding would be harmed by the release of the information to file a motion seeking a ruling to reverse the NRC staff's grant of access.
30 | Deadline for NRC staff reply to motions to reverse NRC staff determination(s).
40 | (Receipt +30) If NRC staff finds standing and need for SUNSI, deadline for NRC staff to complete information processing and file motion for Protective Order and draft Non-Disclosure Agreement or Affidavit. Deadline for applicant/licensee to file Non-Disclosure Agreement or Affidavit for SUNSI.
A | If access granted: issuance of presiding officer or other designated officer decision on motion for protective order for access to sensitive information (including schedule for providing access and submission of contentions) or decision reversing a final adverse determination by the NRC staff.
A + 3 | Deadline for filing executed Non-Disclosure Agreements or Affidavits. Access provided to SUNSI consistent with decision issuing the protective order.
A + 28 | Deadline for submission of contentions whose development depends upon access to SUNSI. However, if more than 25 days remain between the petitioner's receipt of (or access to) the information and the deadline for filing all other contentions (as established in the notice of hearing or notice of opportunity for hearing), the petitioner may file its SUNSI contentions by that later deadline.
A + 53 | (Contention receipt +25) Answers to contentions whose development depends upon access to SUNSI.
A + 60 | (Answer receipt +7) Petitioner/Intervenor reply to answers.
>A + 60 | Decision on contention admission.

[FR Doc. 2022-18031 Filed 8-19-22; 8:45 am]

BILLING CODE 7590-01-P